DEPARTMENT OF ENERGY

Federal Energy Regulatory Commission

Combined Notice of Filings #1

Take notice that the Commission received the following electric rate filings:

Docket Numbers: ER22-379-004.

Applicants: Southwest Power Pool, Inc.

Description: Compliance filing: Compliance Filing—Revisions to Implement ELCC Methodology to be effective 2/15/2022.

Filed Date: 9/6/22.

Accession Number: 20220906-5141.

Comment Date: 5 p.m. ET 9/27/22.

Docket Numbers: ER22-1698-000.

Applicants: EDF Spring Field WPC, LLC.

Description: Refund Report: Report to 1 to be effective N/A.

Filed Date: 9/6/22.

Accession Number: 20220906-5137.

Comment Date: 5 p.m. ET 9/27/22.

Docket Numbers: ER22-2369-001.

Applicants: Midcontinent Independent System Operator, Inc., Ameren Illinois Company.

Description: Tariff Amendment: Midcontinent Independent System Operator, Inc. submits tariff filing per 35.17(b): 2022-09-07_SA 3862 Ameren-ComEd Sub As Available Agreement to be effective 9/12/2022.

Filed Date: 9/7/22.

Accession Number: 20220907-5067.

Comment Date: 5 p.m. ET 9/28/22.

Docket Numbers: ER22-2516-000.

Applicants: Chaves County Solar II, LLC.

Description: Supplement to July 28, 2022 Request for Limited Waiver, et al. of Chaves County Solar II, LLC.

Filed Date: 9/2/22.

Accession Number: 20220902-5157.

Comment Date: 5 p.m. ET 9/12/22.

Docket Numbers: ER22-2787-000.

Applicants: Liberty Power District of Columbia LLC.

Description: Notice of Cancellation of Market Based Rate Tariff of Liberty Power District of Columbia, LLC.

Filed Date: 9/2/22.

Accession Number: 20220902-5088.

Comment Date: 5 p.m. ET 9/23/22.

Docket Numbers: ER22-2788-000.

Applicants: Liberty Power Holdings LLC.

Description: Notice of Cancellation of Market Based Rate Tariff of Liberty Power Holdings, LLC.

Filed Date: 9/2/22.

Accession Number: 20220902-5138.

Comment Date: 5 p.m. ET 9/23/22.

Docket Numbers: ER22-2789-000.

Applicants: Liberty Power Maryland LLC.

Description: Notice of Cancellation of Market Based Rate Tariff of Liberty Power Maryland, LLC.

Filed Date: 9/2/22.

Accession Number: 20220902-5139.

Comment Date: 5 p.m. ET 9/23/22.

Docket Numbers: ER22-2795-000.

Applicants: Pacific Gas and Electric Company.

Description: § 205(d) Rate Filing: WAPA Herdlyn IA (RS 228) to be effective 8/1/2022.

Filed Date: 9/7/22.

Accession Number: 20220907-5000.

Comment Date: 5 p.m. ET 9/28/22.

Docket Numbers: ER22-2796-000.

Applicants: Tri-State Generation and Transmission Association, Inc.

Description: Tariff Amendment: Notice of Cancellation of Rate Schedule FERC No. 317 to be effective 11/7/2022.

Filed Date: 9/7/22.

Accession Number: 20220907-5026.

Comment Date: 5 p.m. ET 9/28/22.

Docket Numbers: ER22-2797-000.

Applicants: PJM Interconnection, L.L.C.

Description: § 205(d) Rate Filing: Amendment to WMPA SA No. 5735; Queue No. AF2-281 to be effective 7/20/2020.

Filed Date: 9/7/22.

Accession Number: 20220907-5027.

Comment Date: 5 p.m. ET 9/28/22.

Docket Numbers: ER22-2798-000.

Applicants: Invenergy Nelson Expansion LLC.

Description: § 205(d) Rate Filing: Revised Market-Based Rate Tariff to be effective 11/7/2022.

Filed Date: 9/7/22.

Accession Number: 20220907-5029.

Comment Date: 5 p.m. ET 9/28/22.

Docket Numbers: ER22-2799-000.

Applicants: VESI 21 LLC.

Description: Baseline eTariff Filing: Petition for Approval of Initial Market-Based Rate Tariff to be effective 10/1/2022.

Filed Date: 9/7/22.

Accession Number: 20220907-5043.

Comment Date: 5 p.m. ET 9/28/22.

Docket Numbers: ER22-2800-000.

Applicants: VESI 24 LLC.

Description: Baseline eTariff Filing: Petition for Approval of Initial Market-Based Rate Tariff to be effective 10/1/2022.

Filed Date: 9/7/22.

Accession Number: 20220907-5044.

Comment Date: 5 p.m. ET 9/28/22.

Docket Numbers: ER22-2801-000.

Applicants: VESI 25 LLC.

Description: Baseline eTariff Filing: Petition for Approval of Initial Market-Based Rate Tariff to be effective 10/1/2022.

Filed Date: 9/7/22.

Accession Number: 20220907-5045.

Comment Date: 5 p.m. ET 9/28/22.

Docket Numbers: ER22-2802-000.

Applicants: Southwestern Public Service Company.

Description: § 205(d) Rate Filing: 2022-09-07 GSEC-RBEC-IA-1st St NDP-743-0.0.0 to be effective 11/6/2022.

Filed Date: 9/7/22.

Accession Number: 20220907-5046.

Comment Date: 5 p.m. ET 9/28/22.

Docket Numbers: ER22-2803-000.

Applicants: Arizona Public Service Company.

Description: § 205(d) Rate Filing: Rate Schedule No. 217 Exhibit B Revision to be effective 11/11/2022.

Filed Date: 9/7/22.

Accession Number: 20220907-5052.

Comment Date: 5 p.m. ET 9/28/22.

Docket Numbers: ER22-2804-000.

Applicants: PJM Interconnection, L.L.C.

Description: § 205(d) Rate Filing: Amendment to ISA, SA No. 5535; Queue No. AB2-179 (amend) to be effective 11/19/2019.

Filed Date: 9/7/22.

Accession Number: 20220907-5070.

Comment Date: 5 p.m. ET 9/28/22.

Docket Numbers: ER22-2805-000.

Applicants: PJM Interconnection, L.L.C.

Description: § 205(d) Rate Filing: Original NSA, Service Agreement No. 6604; Queue No. AE2-224 to be effective 8/8/2022.

Filed Date: 9/7/22.

Accession Number: 20220907-5072.

Comment Date: 5 p.m. ET 9/28/22.

Docket Numbers: ER22-2806-000.

Applicants: American Electric Power Service Corporation, Appalachian Power Company, PJM Interconnection, L.L.C.

Description: § 205(d) Rate Filing: American Electric Power Service Corporation submits tariff filing per 35.13(a)(2)(iii: AEP submits amended ILDSA, SA No. 1252 to be effective 9/1/2022.

Filed Date: 9/7/22.

Accession Number: 20220907-5073.

Comment Date: 5 p.m. ET 9/28/22.

Docket Numbers: ER22-2807-000.

Applicants: NextEra Energy Seabrook, LLC.

Description: § 205(d) Rate Filing: A&R E&P Agreement between NextEra Energy Seabrook and NECEC Transmission to be effective 9/8/2022.

Filed Date: 9/7/22.

Accession Number: 20220907-5075.

Comment Date: 5 p.m. ET 9/28/22.

Docket Numbers: ER22-2808-000.

Applicants: AEP Texas Inc.

Description: § 205(d) Rate Filing: AEPTX-Southwest Texas EC-Golden Spread EC 6th A&R IA to be effective 8/16/2022.

Filed Date: 9/7/22.

Accession Number: 20220907-5076.

Comment Date: 5 p.m. ET 9/28/22.

Docket Numbers: ER22-2809-000.

Applicants: AEP Texas Inc.

Description: § 205(d) Rate Filing: AEPTX-BT Cantwell Solar (Arroyo Projects) 2nd A&R GIA to be effective 8/10/2022.

Filed Date: 9/7/22.

Accession Number: 20220907-5079.

Comment Date: 5 p.m. ET 9/28/22.

Docket Numbers: ER22-2810-000.

Applicants: Duke Energy Florida, LLC.

Description: § 205(d) Rate Filing: DEF-TECO Concurrence (Recker-Osprey) RS No. 385 to be effective 10/24/2022.

Filed Date: 9/7/22.

Accession Number: 20220907-5090.

Comment Date: 5 p.m. ET 9/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2022.
Debbie-Anne A. Reese,
Deputy Secretary.

[FR Doc. 2022-19727 Filed 9-12-22; 8:45 am]

BILLING CODE 6717-01-P